NUCLEAR REGULATORY COMMISSION

[Docket Nos. 50-445 and 50-446]

TXU Utilities Electric Company, et al.; Comanche Peak Steam Electric Station, Units 1 and 2; Notice of Consideration of Issuance of Amendments to Facility Operating Licenses, Proposed No Significant Hazards Consideration Determination, and Opportunity for a Hearing; Correction

AGENCY: Nuclear Regulatory Commission.

ACTION: Notice of Consideration; correction.

SUMMARY: This document corrects a notice relating to the consideration of issuance of amendments to Facility Operating License Nos. NPF-87 and NPF-89 issued to TXU Electric Company, et. al., appearing in the Federal Register on December 4, 2000 (65 FR 75737). This action is necessary to correct the websites listed in the notice for viewing the electronic copies of documents related to this notice.

FOR FURTHER INFORMATION CONTACT: David H. Jaffe, Division of Licensing Project Management, Office of Nuclear Reactor Regulation, U.S. Nuclear Regulatory Commission, Washington, DC 20555-0001, telephone 301-415-1439 (e-mail: DHJ@nrc.gov).

In the Federal Register dated December 4, 2000, page 75739, first column, fifth paragraph, third sentence, the last line is corrected to read (http://www.nrc.gov), first column, seventh paragraph, third sentence, the last line is corrected to read (http://www.nrc.gov), and page 75740, second column, first paragraph, last line is corrected to read (http://www.nrc.gov).

Dated at Rockville, Maryland, this 8th day of December, 2000.
For the Nuclear Regulatory Commission.
David L. Meyer,
Chief, Rules and Directives Branch, Division of Administrative Services, Office of Administration.

[FR Doc. 00-31877 Filed 12-13-00; 8:45 am]

BILLING CODE 7590-01-P